DEPARTMENT OF HEALTH AND HUMAN SERVICES

Centers for Disease Control and Prevention

Disease, Disability, and Injury Prevention and Control Special Emphasis Panel (SEP): Initial review.

The meeting announced below concerns Affordable Care Act (ACA): Childhood Obesity Research Funding Opportunity Announcement (FOA) DP11-007, Panel A, initial review.

In accordance with Section 10(a)(2) of the Federal Advisory Committee Act (Pub. L. 92-463), the Centers for Disease Control and Prevention (CDC) announces the aforementioned meeting:

Time and Date:

7:30 p.m.-9 p.m., June 7, 2011 (Closed)

8:30 a.m.-5:30 p.m., June 8, 2011 (Closed)

8:30 a.m.-5:30 p.m., June 9, 2011 (Closed)

Place: Georgian Terrace Hotel, 659 Peachtree Street, NE., Atlanta, Georgia 30308, Telephone: (404) 989-8305.

Status: The meeting will be closed to the public in accordance with provisions set forth in Section 552b(c) (4) and (6), Title 5 U.S.C., and the Determination of the Director, Management Analysis and Services Office, CDC, pursuant to Public Law 92-463.

Matters to be Discussed: The meeting will include the initial review, discussion, and evaluation of “Affordable Care Act (ACA): Childhood Obesity Research Funding Opportunity Announcement (FOA) DP11-007, Panel A,” initial review.

Contact Person for More Information: Brenda Colley Gilbert, PhD, M.S.P.H., Director, Extramural Research Program Office, National Center for Chronic Disease Prevention and Health Promotion, CDC, 4770 Buford Highway, NE., Mailstop K92, Atlanta, Georgia 30341, Telephone: (770) 488-6295, BJC4@cdc.gov.

The Director, Management Analysis and Services Office, has been delegated the authority to sign Federal Register notices pertaining to announcements of meetings and other committee management activities, for both the Centers for Disease Control and Prevention and the Agency for Toxic Substances and Disease Registry.

Dated: May 11, 2011.
Elaine L. Baker,
Director, Management Analysis and Services Office, Centers for Disease Control and Prevention.

[FR Doc. 2011-12173 Filed 5-17-11; 8:45 am]

BILLING CODE 4163-18-P